DEPARTMENT OF STATE

[Delegation of Authority No.: 410]

Delegation to the Assistant Secretary for Political-Military Affairs of Authority To Concur With Secretary of Defense Institution Capacity Building Programs

By virtue of the authority vested in the Secretary of State, including Section 1081 of the National Defense Authorization Act for Fiscal Year 2016 (Pub. L. 114-95) (the NDAA) and delegated pursuant to Delegation of Authority 245-1, dated February 13,2009, I hereby delegate to the Assistant Secretary for Political-Military Affairs, to the extent authorized by law, the authority to concur with the Secretary of Defense establishing Defense Institution Capacity Building Programs pursuant to subsection 1081(a) and 1081(b) of the NDAA.

Notwithstanding this delegation of authority, any function or authority delegated herein may be exercised by the Secretary, the Deputy Secretary, the Deputy Secretary for Management and Resources, or the Under Secretary for Arms Control and International Security. Any reference in this delegation of authority to any statute or delegation of authority shall be deemed to be a reference to such statute or delegation of authority as amended from time to time.

This delegation of authority shall be published in the Federal Register.

Dated: November 30, 2016.
Antony J. Blinken,
Deputy Secretary of State.

[FR Doc. 2016-31199 Filed 12-23-16; 8:45 am]

BILLING CODE 4710-25-P